DEPARTMENT OF LABOR

Office of the Secretary

Notice of Intent to Fund the International Rescue Committee (IRC)

AGENCY: Bureau of International Labor Affairs, U.S. Department of Labor.

ACTION: Notice of Intent to award up to $500,000 to the International Rescue Committee (IRC) under cooperative agreement #E-9-K-2-0118.

SUMMARY: The U.S. Department of Labor (USDOL), Bureau of International Labor Affairs (ILAB), intends to add up to $500,000 to cooperative agreement #E-9-K-2-0118 with the International Rescue Committee (IRC) to continue implementing a job skills and micro-enterprise development training project in Afghanistan. The activities that will be implemented with the additional funds will commence no later than September 30, 2004 and continue for a period of one year until September 29, 2005. USDOL/ILAB intends to award this cooperative agreement on or after September 6, 2004. USDOL awarded the original $3 million grant to the IRC in September 2002 for a three-year project that was set to run through September 2005. An unexpected shortfall of funds, however, and a critical examination of the budget and implementation context led the IRC and USDOL to conclude that $3 million was sufficient for only two years of project operations. The purpose of the additional funds is to continue implementation of the project for one additional year and fulfill the Department's original plan for a three-year project.

FOR FURTHER INFORMATION CONTACT: Lisa Harvey, Grant Officer. U.S. Department of Labor, Procurement Services Center, 200 Constitution Ave., NW., Room N-5416, Washington, DC 20210. Telephone: (202) 693-4570. E-mail address: harvey.lisa@dol.gov. All inquiries should make reference to the USDOL cooperative agreement #E-9-K-2-0118.

Signed at Washington, DC, this 31st day of August, 2004.
Valerie Veatch,
Director, Procurement Services Center.

[FR Doc. 04-20314 Filed 9-7-04; 8:45 am]

BILLING CODE 4510-28-P